INTERNATIONAL TRADE COMMISSION

[Investigation No. 337-TA-856]

Certain Wireless Communication Devices, Portable Music and Data Processing Devices, Computers, and Components Thereof

AGENCY: U.S. International Trade Commission.

ACTION: Notice.

SUMMARY: Notice is hereby given that the U.S. International Trade Commission has determined not to review an initial determination (“ID”) (Order No. 5) terminating the above-captioned investigation based on withdrawal of the complaint. The investigation is terminated.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on September 21, 2012, based on a complaint filed by Motorola Mobility LLC, of Libertyville, Illinois; Motorola Mobility Ireland, of Hamilton, Bermuda; and Motorola Mobility International of Hamilton, Bermuda (collectively, (“Motorola”). 77 FR 58576 (Sept. 21, 2012). The complaint alleges violations of section 337 of the Tariff Act of 1930, as amended (19 U.S.C. 1337), by reason of infringement of seven United States patents. The notice of investigation names Apple Inc. of Cupertino, California (“Apple”), as the only respondent.

On October 1, 2012, Motorola filed an unopposed motion to withdraw its complaint and terminate the investigation. On October 2, 2012, the ALJ granted Motorola's motion and issued the subject ID (Order No. 5), terminating the investigation. No petitions for review of the ID were filed.

The Commission has determined not to review the ID.

The authority for the Commission's determination is contained in section 337 of the Tariff Act of 1930, as amended (19 U.S.C. 1337), and in part 210 of the Commission's Rules of Practice and Procedure (19 CFR part 210).

Issued: October 23, 2012.
By order of the Commission.
Lisa R. Barton,
Acting Secretary to the Commission.

[FR Doc. 2012-26468 Filed 10-26-12; 8:45 am]

BILLING CODE 7020-02-P